DEPARTMENT OF COMMERCE

National Oceanic and Atmospheric Administration

50 CFR Part 622

[Docket No. 240910-0234]

RIN 0648-BM98

Fisheries of the Caribbean, Gulf of Mexico, and South Atlantic; Reef Fish Fishery of the Gulf of Mexico; Lane Snapper Catch Limits

AGENCY: National Marine Fisheries Service (NMFS), National Oceanic and Atmospheric Administration (NOAA), Commerce.

ACTION: Final rule.

SUMMARY: NMFS issues regulations to implement management measures described in an abbreviated framework action under the Fishery Management Plan for the Reef Fish Resources of the Gulf of Mexico (FMP) as prepared by the Gulf of Mexico Fishery Management Council (Council). This final rule modifies the Gulf of Mexico (Gulf) lane snapper catch limits. The purpose of this final rule is to modify the Gulf lane snapper catch limits based on the best scientific information available. This final rule also revises reporting and compliance requirements for Gulf reef fish commercial permit holders using vessel monitoring systems (VMS).

DATES: This final rule is effective October 18, 2024.

ADDRESSES: Electronic copies of the abbreviated framework action, which includes a Regulatory Flexibility Act (RFA) analysis and a regulatory impact review, may be obtained from the Southeast Regional Office website at https://www.fisheries.noaa.gov/action/gulf-mexico-lane-snapper-catch-limits-abbreviated-framework.

Written comments regarding the burden hour estimates or any other aspects of the collection of information requirements contained in this final rule may be submitted at any time by email to Carolyn Sramek, NMFS Southeast Regional Office, carolyn.sramek@noaa.gov or to www.reginfo.giv/public/do/PRAMain.

FOR FURTHER INFORMATION CONTACT: Dan Luers, NMFS Southeast Regional Office, telephone: 727-824-5305, email: daniel.luers@noaa.gov.

SUPPLEMENTARY INFORMATION: NMFS, with the advice of the Council, manages the Gulf reef fish fishery, which includes lane snapper, under the FMP. The FMP was prepared by the Council, approved by the Secretary of Commerce, and is implemented by NMFS through regulations at 50 CFR part 622 under the authority of the Magnuson-Stevens Fishery Conservation and Management Act (Magnuson-Stevens Act).

Background

The Magnuson-Stevens Act requires NMFS, with the advice from the regional fishery management councils, to prevent overfishing and achieve, on a continuing basis, the optimum yield (OY) from federally managed fish stocks. These mandates are intended to ensure fishery resources are managed for the greatest overall benefit to the Nation, particularly with respect to providing food production and recreational opportunities and protecting marine ecosystems.

On June 17, 2024, NMFS published a proposed rule for the abbreviated framework action and requested public comment (89 FR 51295). Comments received on the proposed rule are summarized and responded to in the Comments and Responses section of this final rule.

Unless otherwise noted, all weights in this final rule are in round weight.

Lane snapper occur in estuaries and shelf waters of the Gulf and are particularly abundant off south and southwest Florida. Lane snapper in the Gulf exclusive economic zone are managed as a single stock, with a combined annual catch limit (ACL) for the commercial and recreational sectors that is set equal to the acceptable biological catch (ABC). The fishing season is open year-round, January 1 through December 31 unless a closure is required to constrain landings to the ACL. Currently, the lane snapper overfishing limit (OFL) is 1,053,834 pounds (lb) (478,011 kilograms (kg)), and the ABC is 1,028,973 lb (466,734 kg). These catch limits are based on the results of an update to the Southeast Data, Assessment, and Review 49 (SEDAR 49) that was completed in 2019 and used recreational landings estimates generated by the Marine Recreational Information Program (MRIP) Fishing Effort Survey (FES) instead of the previous MRIP-Coastal Household Telephone Survey.

This final rule increases the lane snapper OFL, ABC, and ACL based on the results of the SEDAR 49 interim analysis (IA) and recommendations from the Council's Scientific and Statistical Committee (SSC). The SEDAR 49 IA included updated landings and dead discards information as well as an updated catch-per-unit-effort index for the headboat fleet.

Management Measures Contained in the Abbreviated Framework Action and This Final Rule

The abbreviated framework action and final rule increase the lane snapper OFL from 1,053,834 lb (478,011 kg) to 1,116,331 lb (506,359 kg), increase the ABC from 1,028,973 lb (466,734 kg) to 1,088,873 lb (493,904 kg), and set the stock ACL equal to the ABC at 1,088,873 lb (493,904 kg). This results in an overall increase in the allowable harvest of 59,900 lb (27,170 kg).

Changes to Regulations Not Associated With the Abbreviated Framework Action

For fishermen with a valid Federal commercial permit to harvest Gulf reef fish, NMFS is revising the process for requesting a power-down exemption to the VMS requirement. NMFS is also removing the requirement that the vessel owner or operator certify compliance with the proper installation and activation of a VMS unit. NMFS expects both of these changes to reduce the burden on individual fishermen and NMFS, and to increase enforceability.

Regulations at 50 CFR 622.28(a) require the owner or operator of a vessel that has been issued a commercial permit for Gulf reef fish to maintain an operational satellite-linked VMS unit on the vessel that transmits the location of the vessel on a regular and consistent basis. Regulations at 50 CFR 622.28(d) allow an owner or operator to power down the VMS unit if the vessel will be continuously out of the water or in port more than 72 consecutive hours. The regulations at 50 CFR 622.28(d) also specify the process for requesting this power-down exemption, which includes obtaining a letter of exemption from the NMFS Office of Law Enforcement (OLE), filing a report through the VMS terminal prior to each power down, and entering the power-down code in the VMS terminal prior to each power down.

When VMS was first required, the process to request a power-down exemption was not included in the regulations; instead, the regulations referred to the NOAA Enforcement Draft VMS Requirements that were included in Appendix E to Amendment 18A to the FMP (71 FR 45248, August 9, 2006). When NMFS revised the VMS regulations in 2007, NMFS added to the regulations the process for requesting a power-down exemption (72 FR 73270, December 27, 2007). Technology now allows for use of an online form and immediate authorization by NMFS.

Therefore, NMFS is modifying the process for submitting the power-down exemption, including how and what information is collected. The owner or operator of the permitted vessel will use an online form to request the VMS power-down exemption. The information requested on the online form is similar to the current form. The only change to the data collected is a field for an email address for the person making the request and their self-identification as the vessel owner or operator. NMFS expects the online form to allow for faster communication and approval for the requester, and to streamline the administrative process by eliminating the need for manual data entry. NMFS will use the self-identification to confirm that the submitter is authorized to submit the request as the vessel owner or operator.

If all of the required information is provided, the authorization for the power-down exemption will be provided automatically as a visible display soon after the time of submission, and will also be sent to the email address provided by the requester and, if different from the requester, to the permit holder's email address if NMFS was provided that information as part of the permit holder's previous permit application. Vessel owners and operators will no longer send an email from the VMS unit on the vessel to NMFS OLE or enter the power-down code using the VMS declaration form on the VMS terminal.

A power-down exemption will be valid until the expiration date requested, which NMFS will limit to not more than 1 year from the authorization date. A new request for a power-down exemption would be required after the completion of the previous authorization for any subsequent time period. There is no limit on the number of exemptions that can be requested.

If a vessel owner or operator wants to end a power-down exemption before the expiration date, the authorization would end automatically when the vessel owner or operator submits a commercial trip declaration. Alternatively, the vessel owner or operator may contact NMFS OLE to end the power-down exemption.

In addition to the changes to the power-down exemption regulations, NMFS is removing the current requirements at 50 CFR 622.28(f)(1) through (3) for a vessel owner or operator to submit a form certifying that a qualified marine electrician has installed and activated a NMFS-approved VMS unit on the vessel. The intent of the form, “Vessel Monitoring System (VMS) Installation and Activation Certification for the Reef Fish Fishery of the Gulf of Mexico,” was to provide NMFS with additional assurance that a vessel owner or operator is compliant with the requirements to install and activate an approved VMS unit. However, NMFS has determined that the compliance form is overly burdensome and has little utility. To accomplish the same purpose as the form, NMFS is adding a check-box certification to the permit application that is required when a commercial reef fish permit is renewed or transferred. In addition, NMFS can detect whether a unit is operational. The existing requirement for a qualified marine technician to install the VMS unit will remain in § 622.28(f).

Comments and Responses

NMFS received five comment submissions in response to the proposed rule that NMFS published for the abbreviated framework action. Three were in opposition to increasing the lane snapper catch limits and one expressed support for the proposed VMS changes. One comment was outside the scope of the abbreviated framework action and proposed rule, suggesting increased regulation of commercial shrimp boats to address lane snapper bycatch. The comments opposing the increase in the lane snapper catch limits are summarized below, followed by NMFS's response.

Comment 1: It is not appropriate to increase the lane snapper catch limits at this time, especially given recent red tide events that have resulted in fish kills. The population should be allowed to grow for 3-5 years before considering a small increase.

Response: NMFS disagrees that it is not appropriate to increase the lane snapper catch limits at this time. The most recent interim analysis (SEDAR 49 IA) included data through 2022 and indicated that an increase in the Gulf lane snapper stock ACL would not negatively impact the stock. Despite increased fishing pressure and red tide events in recent years, the SEDAR 49 IA found that the lane snapper population was steady and could support a small amount of additional harvest. The Council's SSC reviewed the results of the SEDAR 49 IA and recommended a 5.8 percent increase to the ABC of 59,900 lb (27,270 kg). The Council accepted the SSC's advice and recommended setting the stock ACL equal to the ABC. NMFS agrees that this increase, which is based on the best scientific information available, is appropriate at this time.

Classification

Pursuant to sections 304(b)(3) and 305(d) of the Magnuson-Stevens Act, NMFS issues this final rule, which provides the specific authority and procedure for implementing this action. Section 304(b)(3) authorizes NMFS to issue final regulations prepared and recommended by the Council under section 303(c). Section 305(d) authorizes NMFS to promulgate regulations necessary to carry out an FMP. The NMFS Assistant Administrator has determined that this final rule is consistent with the abbreviated framework action, the FMP, other provisions of the Magnuson-Stevens Act, and other applicable law.

This final rule has been determined to be not significant for purposes of Executive Order 12866. The Magnuson-Stevens Act provides the legal basis for this final rule. No duplicative, overlapping, or conflicting Federal rules have been identified. A description of this final rule, why it is being implemented, and the purposes of this final rule are contained in the SUMMARY and SUPPLEMENTARY INFORMATION sections of this preamble.

The first objective of this final rule is to update existing Gulf lane snapper catch limits based on the best scientific information available to achieve OY for Gulf lane snapper while preventing overfishing, consistent with the requirements of the Magnuson-Stevens Act. The second objective of this final rule is to revise VMS-related reporting requirements for commercial Gulf reef fish permit holders to be consistent with NMFS OLE's current practices and to remove the requirement to provide the certification of installation and activation.

The Chief Counsel for Regulation of the Department of Commerce certified to the Chief Counsel for Advocacy of the Small Business Administration during the proposed rule stage that this action would not have a significant economic impact on a substantial number of small entities. The factual basis for the certification was published in the proposed rule and is not repeated here. No public comments were received regarding this certification. NMFS did not receive any comments from the U.S. Small Business Administration's Office of Advocacy or the public regarding the economic analysis in the abbreviated framework action or the certification in the proposed rule. As a result, no changes to this final rule were made in response to public comments. Because this final rule is not expected to have a significant economic impact on a substantial number of small entities, a final regulatory flexibility analysis is not required and none has been prepared.

This final rule contains a collection-of-information requirement subject to review and approval by the OMB under the Paperwork Reduction Act (PRA). This final rule changes the existing requirements for the collection of information under OMB Control Number 0648-0544, Southeast Region Vessel Monitoring System and Related Requirements by revising the process for fishermen to request a VMS power-down exemption, including how and what information is collected, and the valid period of an exemption. This final rule also changes the existing requirements by removing an existing requirement for a vessel owner or operator to submit a form certifying that a qualified marine electrician has installed and activated a NMFS-approved VMS unit on the vessel, and that NMFS personnel have verified its operation.

The revised VMS power-down exemption would apply to all 814 actively permitted Gulf reef fish vessels, and NMFS expects the proposed VMS power-down exemption changes to decrease the number of respondents per year and decrease the number of annual responses. The annual fleet-wide time burden associated with this revision would be increased from 12.5 hours to 21.75 hours, or an increase of 9.25 total burden hours. Thus, the public reporting burden per vessel is expected to increase on average by approximately 0.01 hours per year and results in an increase in opportunity cost of approximately $0.32 per business per year. This includes the time for reviewing instructions, searching existing data sources, gathering and maintaining the data needed, and completing and reviewing the collection of information.

The revised VMS Installation and Activation Certification requirement would also apply to all 814 actively permitted Gulf reef fish vessels, and NMFS expects the removal of the VMS Installation and Activation Certification for the Reef Fish Fishery of the Gulf of Mexico to decrease the number of respondents per year and decrease the number of annual responses. The annual fleet-wide time burden associated with this revision would be decreased from 593.3 hours to 2.67 hours, or a reduction of 590.63 total burden hours. Thus, the total decrease in time burden on average per vessel is approximately 0.73 hours per year and results in a reduction in opportunity cost of approximately $20.20 per business per year. This includes the time for reviewing instructions, searching existing data sources, gathering, and maintaining the data needed, and completing and reviewing the collection of information.

NMFS invites the general public and other Federal agencies to comment on proposed and continuing information collections, which helps NMFS assess the impact of our information collection requirements and minimize the public's reporting burden. Written comments and recommendations for this information collection should be submitted on the following website: www.reginfo.gov/public/do/PRAMain. Find this particular information collection by using the search function and entering the title of the collection or the OMB Control Number 0648-0544.

Notwithstanding any other provision of the law, no person is required to respond to, nor shall any person be subject to a penalty for failure to comply with, a collection of information subject to the requirements of the PRA, unless that collection of information displays a currently valid OMB Control Number.

List of Subjects in 50 CFR Part 622

Commercial, Fisheries, Fishing, Gulf, Lane snapper, Recreational, Reef fish, Vessel monitoring systems.

Dated: September 12, 2024.
Samuel D. Rauch III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.28, revise paragraphs (d) and (f) to read as follows:

§ 622.28 Vessel monitoring systems (VMSs).

* * * * *

(d) Power-down exemptions. An owner or operator of a vessel subject to the requirement to have a VMS operating at all times as specified in paragraph (a) of this section can be exempted from that requirement and may power down the required VMS unit as specified in the following provisions.

(1) The vessel will be continuously out of the water or in port, as defined in paragraph (c) of this section, for more than 72 consecutive hours.

(2) The owner or operator of the vessel requests and obtains authorization from NMFS OLE to power-down the VMS unit on the same vessel. VMS units must remain on and positioning until the vessel owner or operator receives such authorization. A request for a power-down exemption must be completed through a NMFS website. The request must provide the specified information, such as, the identity of person making the request, vessel owner, vessel identification, and the reason for an exemption. Authorization for the power-down is displayed on the website after submission of all required information and is transmitted by email to the requester and the vessel owner, if different from the requester. After receipt of the authorization, the VMS unit may be turned off for the approved time period.

(3) If a vessel with an approved VMS power-down exemption submits a trip declaration, as specified in paragraph (e) of this section, before the power-down exemption expires, the power-down exemption will be void, and the vessel is required to have a VMS operating at all times as specified in paragraph (a) of this section. Authorization for a new power-down exemption will be required before the vessel can subsequently power-down the VMS unit.

(4) An approved VMS power-down exemption is not transferrable and is granted only to the vessel owner, vessel, and the commercial reef fish permit number contained in the authorization.

(5) The maximum period for a single approved VMS power-down exemption is 1 year from the date that NMFS grants the VMS power-down exemption. A vessel owner or operator may request a subsequent VMS power-down exemption for the same vessel after the expiration of the preceding power-down exemption.

* * * * *

(f) Installation and activation of a VMS. Only a VMS that has been approved by NMFS for the Gulf reef fish fishery may be used, and the VMS must be installed by a qualified marine electrician.

* * * * *

3. In § 622.41, revise paragraph (k) to read as follows:

§ 622.41 Annual catch limits (ACLs), annual catch targets (ACTs), and accountability measures (AMs).

* * * * *

(k) Lane snapper. If the sum of the commercial and recreational landings, as estimated by the SRD, reaches or is projected to reach the stock ACL, as specified in this paragraph (k), the AA will file a notification with the Office of the Federal Register to close the commercial and recreational sectors for the remainder of the fishing year. The stock ACL for lane snapper is 1,088,873 lb (493,904 kg), round weight.

* * * * *

[FR Doc. 2024-21244 Filed 9-17-24; 8:45 am]

BILLING CODE 3510-22-P